DEPARTMENT OF THE INTERIOR

National Park Service

[NPS-WASO-NAGPRA-NPS0036756; PPWOCRADN0-PCU00RP14.R50000]

Notice of Inventory Completion: University of California, Davis, Davis, CA

AGENCY: National Park Service, Interior.

ACTION: Notice.

SUMMARY: In accordance with the Native American Graves Protection and Repatriation Act (NAGPRA), the University of California, Davis (UC Davis) has completed an inventory of human remains and associated funerary objects and has determined that there is a cultural affiliation between the human remains and associated funerary objects and Indian Tribes or Native Hawaiian organizations in this notice. The human remains and associated funerary objects were removed from Amador County, CA.

DATES: Repatriation of the human remains and associated funerary objects in this notice may occur on or after November 22, 2023.

ADDRESSES: Megon Noble, NAGPRA Project Manager, University of California, Davis, 412 Mrak Hall, One Shields Avenue, Davis, CA 95616, telephone (530) 752-8501, email mnoble@ucdavis.edu.

SUPPLEMENTARY INFORMATION: This notice is published as part of the National Park Service's administrative responsibilities under NAGPRA. The determinations in this notice are the sole responsibility of UC Davis. The National Park Service is not responsible for the determinations in this notice. Additional information on the determinations in this notice, including the results of consultation, can be found in the inventory or related records held by UC Davis.

Description

Human remains representing, at minimum, 39 individuals were removed from Amador County, CA. Jerald Johnson, a graduate student at the Department of Anthropology directed a salvage excavation at CA-AMA-56 in 1965. There are 1,822 associated funerary objects. Of that number, 1,657 funerary objects have been located and 165 objects are currently missing. UC Davis continues to look for the missing associated funerary objects. The 1,657 located associated funerary objects are 122 lots consisting of worked shell (including Olivella and haliotis beads, pendants, ornaments, and other worked shell); 141 lots consisting of worked bone (including beads, awls/needles/pins, tubes, incised bone, and other worked bone); 34 lots consisting of worked stone (including pendants, beads, a charmstone, a steatite bowl fragment, and other worked stone); 33 lots consisting of projectile points; 677 lots consisting of chipped stone (including bifaces, blades, cores, drills, knives, and debitage); three lots consisting of worked horn; 40 lots consisting of groundstones; 16 lots consisting of quartz crystals; 74 lots consisting of ochre; two lots consisting of ash; five lots consisting of charcoal; seven lots consisting of baked clay; 17 lots consisting of historic items; 240 lots consisting of unmodified animal bones; 126 lots consisting of unmodified shells; three lots consisting of hull fragments; and 117 lots consisting of unmodified stones (including fire-affected rock). The 165 currently missing associated funerary objects are 73 lots consisting of worked shell (including Olivella shell beads and other worked shell); two lots consisting of worked stone; one bone pin; one miscellaneous worked bone; 46 lots consisting of projectile points; 30 lots consisting of chipped stone (including bifaces, knives, and debitage); two lots consisting of groundstones; one lot consisting of ochre; one lot consisting of miscellaneous minerals; three lots consisting of unmodified animal bones; three lots consisting of unmodified shells; one lot consisting of “associated material”; and one lot consisting of miscellaneous unknown/missing material.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archaeological, biological, geographical, historical, linguistic, and oral traditional.

Determinations

Pursuant to NAGPRA and its implementing regulations, and after consultation with the appropriate Indian Tribes and Native Hawaiian organizations, UC Davis has determined that:

• The human remains described in this notice represent the physical remains of 39 individuals of Native American ancestry.

• The 1,822 objects described in this notice are reasonably believed to have been placed with or near individual human remains at the time of death or later as part of the death rite or ceremony.

• There is a relationship of shared group identity that can be reasonably traced between the human remains and associated funerary objects described in this notice and the Buena Vista Rancheria of Me-Wuk Indians of California; California Valley Miwok Tribe, California; Chicken Ranch Rancheria of Me-Wuk Indians of California; Ione Band of Miwok Indians of California; Jackson Band of Miwuk Indians; Shingle Springs Band of Miwok Indians, Shingle Springs Rancheria (Verona Tract), California; United Auburn Indian Community of the Auburn Rancheria of California; and the Wilton Rancheria, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 22, 2023. If competing requests for repatriation are received, UC Davis must determine the most appropriate requestor prior to repatriation. Requests for joint repatriation of the human remains and associated funerary objects are considered a single request and not competing requests. UC Davis is responsible for sending a copy of this notice to the Indian Tribes identified in this notice.

Authority: Native American Graves Protection and Repatriation Act, 25 U.S.C. 3003, and the implementing regulations, 43 CFR 10.9, 10.10, and 10.14.

Dated: October 11, 2023.
Melanie O'Brien,
Manager, National NAGPRA Program.

[FR Doc. 2023-23279 Filed 10-20-23; 8:45 am]

BILLING CODE 4312-52-P